DEPARTMENT OF TRANSPORTATION

Federal Aviation Administration

14 CFR Part 71

[Docket No. FAA-2019-0729; Airspace Docket No. 19-AGL-12]

RIN 2120-AA66

Amendment of Air Traffic Service (ATS) Routes V-82, V-217, and T-383 in the Vicinity of Baudette, MN

AGENCY: Federal Aviation Administration (FAA), DOT.

ACTION: Final rule.

SUMMARY: This action amends two VHF Omnidirectional Range (VOR) Federal airways, V-82 and V-217, and one area navigation (RNAV) route, T-383. The FAA is taking this action due to the planned decommissioning of the VOR portion of the Baudette VOR/Distance Measuring Equipment (VOR/DME) navigation aid (NAVAID). The Baudette VOR is being decommissioned in support of the FAA's VOR Minimum Operational Network (MON) program.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the National Airspace System as necessary to preserve the safe and efficient flow of air traffic.

History

The FAA published a notice of proposed rulemaking for Docket No. FAA-2019-0729 in the Federal Register (84 FR 50344; September 25, 2019), amending VOR Federal airways V-82, V-217 and RNAV route T-383 due to the planned decommissioning of the VOR portion of the Baudette, MN, VOR/DME NAVAID. Interested parties were invited to participate in this rulemaking effort by submitting written comments on the proposal. No comments were received.

VOR Federal airways are published in paragraph 6010(a) and RNAV T-routes are published in paragraph 6011 of FAA Order 7400.11D dated August 8, 2019, and effective September 15, 2019, which is incorporated by reference in 14 CFR 71.1. The VOR Federal airways and RNAV T-route listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying VOR Federal airways V-82 and V-217 by removing airway segments, and extending RNAV route T-383 to overlay the V-82 routing being removed. The planned decommissioning of the VOR portion of the Baudette, MN, VOR/DME has made this action necessary. The air traffic service (ATS) route actions are described below.

V-82: V-82 extends between the Baudette, MN, VOR/DME and the intersection of the Baudette VOR/DME 194° and Park Rapids, MN, VOR/DME 003° radials (BLUOX fix), and between the Gopher, MN, VORTAC and the Dells, WI, VORTAC. The airway segment between the Baudette VOR/DME and the intersection of the Baudette VOR/DME 194° and Park Rapids, MN, VOR/DME 003° radials is removed. The unaffected portions of the existing airway remain as charted.

V-217: V-217 extends between the intersection of the Madison, WI, VOR/DME 138° and Badger, WI, VOR/DME 193° radials and the Winnipeg, MB, Canada, VORTAC. The airspace within Canada is excluded and the portion of the airway that lies within the Beaver Military Operations Area (MOA) is excluded when the Beaver MOA is active. The airway segment between the Hibbing, MN, VOR/DME and the Winnipeg, MB, Canada, VORTAC is removed, as well as the exclusion language addressing the airspace within Canada and the Beaver MOA. The unaffected portions of the existing airway remain as charted.

T-383: T-383 extends between the Gopher, MN, VORTAC and the BLUOX, MN, fix. The route is extended between the BLUOX, MN, fix and the Baudette, MN, DME. The unaffected portions of the existing airway remain as charted.

The NAVAID radials listed in the V-217 airway description below are unchanged and stated in True degrees.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending ATS routes V-82, V-217, and T-383 due to the planned decommissioning of the Baudette VOR has no potential to cause any significant environmental impacts, and no extraordinary circumstances exist that warrant preparation of an environmental assessment. Therefore, this airspace action has been categorically excluded from further environmental impact review in accordance with the National Environmental Policy Act (NEPA) and its implementing regulations at 40 CFR parts 1500-1508, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-82 [Amended]

From Gopher, MN; Farmington, MN; Rochester, MN; Nodine, MN; to Dells, WI.

* * * * *

V-217 [Amended]

From INT Madison, WI, 138° and Badger, WI, 193° radials; Badger; Green Bay, WI; Rhinelander, WI; Duluth, MN; to Hibbing, MN.

* * * * *

Paragraph 6011 United States Area Navigation Routes.

* * * * *

T-383 Gopher, MN (GEP) to Baudette, MN (BDE) [Amended]
Gopher, MN (GEP) | VORTAC | (Lat. 45°08′44.47″ N, long. 093°22′23.45″ W)
BRNRD, MN | WP | (Lat. 46°20′53.81″ N, long. 094°01′33.54″ W)
BLUOX, MN | FIX | (Lat. 47°34′33.13″ N, long. 095°01′29.11″ W)
Baudette, MN (BDE) | DME | (Lat. 48°43′22.07″ N, long. 094°36′26.24″ W)

Issued in Washington, DC, on February 12, 2020.
Mark Gauch,
Acting Manager, Rules and Regulations Group.

[FR Doc. 2020-03282 Filed 2-20-20; 8:45 am]

BILLING CODE 4910-13-P